FEDERAL COMMUNICATIONS COMMISSION

47 CFR Parts 0, 1, and 80

[MD Docket No. 23-156; FCC 23-39; FR ID 145447]

Closure of FCC Lockbox 979097 Used To File Fees for Services Provided by the Wireless Telecommunications Bureau

AGENCY: Federal Communications Commission.

ACTION: Final rule.

SUMMARY: In this document, the Federal Communications Commission (FCC or Commission) adopts an Order that closes Lockbox 979097 and modifies the relevant rule provisions to require electronic filing and fee payments.

DATES: Effective August 14, 2023.

FOR FURTHER INFORMATION CONTACT: Warren Firschein, Office of Managing Director at (202) 418-2653 or Roland Helvajian, Office of Managing Director at (202) 418-0444.

SUPPLEMENTARY INFORMATION: This is a summary of the Commission's Order, FCC 23-39, MD Docket No. 23-156, adopted on May 17, 2023 and released on May 18, 2023, which is the subject of this rulemaking. The full text of this document is available for public inspection and copying by downloading the text from the Commission's website at https://www.fcc.gov/document/closure-lockbox-used-collect-fee-payments-wtb.

I. Procedural Matters

A. Final Regulatory Flexibility Analysis

1. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

2. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

C. Congressional Review Act

3. The Commission will not send a copy of the Order pursuant to the Congressional Review Act, see 5 U.S.C. 801(a)(1)(A), because the adopted rules are rules of agency organization, procedure, or practice that do not “substantially affect the rights or obligations of non-agency parties. See 5 U.S.C. 804(3)(C).

II. Introduction

4. In the Order, we reduce expenditures by the Federal Communications Commission (FCC or Commission) and modernize Commission procedures by amending § 1.1102 of our rules, 47 CFR 1.1102, which sets forth the fees for applications and other filings processed by the FCC's Wireless Telecommunications Bureau (WTB). The rule amendment reflects the closure of the P.O. Box 979097 (i.e., lockbox) ¹ used for manual payment of filing fees for three different broad categories of filings: (1) Site-based license applications; (2) Personal license applications; and (3) Geographic-based license applications. We discontinue the option of manual fee payments and instead require the use of an electronic payment for each listing in this rule, and make conforming changes to other related provisions.

¹ Our rules and other Commission documents refer to a series of P.O. Boxes used for the collection of fees as “lockboxes.” These P.O. Boxes are located at U.S. Bank in St. Louis, Missouri. Once a payment is received, it is processed and recorded by the bank.

5. Section 1.1102 of the Commission's rules, 47 CFR 1.1102, provides a schedule of fees for applications and other filings processed by WTB. The rule also directs filers that do not utilize the Commission's on-line filing and fee payment systems to send manual filings and/or payments to the Commission at P.O. Box 979097 at U.S. Bank in St. Louis, Missouri. In recent years, there have been a decreasing number of lockbox payments, and, although paper filings are contemplated by the rule, WTB now requires electronic filing of all wireless radio service applications and pleadings. As a result, transition to all electronic payments is consistent with Commission-wide efforts to digitize our systems and create efficient and more accessible interactions with the agency.

6. The Commission has reduced its reliance on P.O. Boxes for the collection of fees, instead encouraging the use of electronic payment systems for all application and regulatory fees and closing certain lockboxes. We find that electronic payment of fees for the services processed by WTB reduces the agency's expenditures (including eliminating the annual fee for the bank's services) and the cost of manually processing each transaction, with little or no inconvenience to the Commission's regulatees, applicants, and the public. As part of this effort, we are now closing P.O. Box 979097 and modifying the relevant rule provisions that permit manual filings and require payment of fees via the closed P.O. Box. Specifically, §§ 0.482, 1.1102, and 1.2107 are being modified to eliminate references to the lockbox at U.S. Bank. In addition, § 1.907 is being modified to eliminate references to applications submitted on paper, and the caption to § 1.913 is being adjusted to eliminate a reference to manual filing. In addition, we make minor modifications to our rules to reflect the replacement of the Commission's prior payment interface, Fee Filer, with a module contained within the Commission's Registration System (CORES). These rule changes are contained in the Appendix of the Order and the Final Rules of this document. We make these changes without notice and comment because they are rules of agency organization, procedure, or practice exempt from the general notice-and-comment requirements of the Administrative Procedure Act, see 5 U.S.C. 553(b)(A).

7. Implementation of Lockbox Closure. As a temporary transition measure, for 90 days after publication of this order in the Federal Register, U.S. Bank will continue to process payments to P.O. Box 979097. After that date, payments for these WTB services must be made in accordance with the procedures set forth on the Commission's website, https://www.fcc.gov/wireless-fees. For now, such payments will be made upon log-in at https://apps.fcc.gov/cores/userLogin.do. Users will then access the link Manage Existing FRNs, and subsequently FRN Financials. Batch filers will use ULS Pay fees to make electronic payments. In the event an applicant is unable to make an electronic payment, the Commission's existing waiver standard in 47 CFR 1.925(b)(3) remains the appropriate vehicle to seek relief from the electronic payment requirement. As we assess and implement U.S. Treasury initiatives toward an all-electronic payment system, we may transition to other secure payment systems with appropriate public notice and guidance.

III. Ordering Clauses

9. Accordingly, it is ordered, that pursuant to sections 4(i), 4(j), 158, 208, and 224 of the Communications Act of 1934, as amended, 47 U.S.C. 154(i), 154(j), 158, 208, and 224, the Order is hereby adopted and the rules set forth in the Appendix of the Order are hereby amended effective August 14, 2023.

List of Subjects

47 CFR Part 0

Organization and functions (Government agencies).

47 CFR Part 1

Administrative practice and procedure.

47 CFR Part 80

Reporting and recordkeeping requirements.

Federal Communications Commission.
Marlene Dortch,
Secretary.

Final Rules

For the reasons discussed in the preamble, the Federal Communications Commission amends 47 CFR parts 0, 1, and 80 as follows:

PART 0—COMMISSION ORGANIZATION

1. The authority citation for part 0 continues to read as follows:

Authority: 47 U.S.C. 151, 154(i), 154(j), 155, 225, and 409, unless otherwise noted.

2. Amend § 0.482 by revising the first sentence to read as follows:

§ 0.482 Application for waiver of wireless radio service rules.

All requests for waiver of the rules (see § 1.925 of this chapter) governing the Wireless Radio Services (see § 1.907 of this chapter) that require a fee (see § 1.1102 of this chapter) shall be submitted via the Universal Licensing System. * * *

PART 1—PRACTICE AND PROCEDURE

3. The authority citation for part 1 continues to read as follows:

Authority: 47 U.S.C. chs. 2, 5, 9, 13; 28 U.S.C. 2461 note, unless otherwise noted.

4. Amend § 1.907 by revising the definition of “Receipt date” to read as follows:

§ 1.907 Definitions.

* * * * *

Receipt date. The date an electronic application is received at the appropriate location at the Commission.

* * * * *

5. Amend § 1.913 by revising the section heading to read as follows:

§ 1.913 Application and notification forms; electronic filing.

* * * * *

6. Amend § 1.1102 by revising the last sentence of paragraph (a) to read as follows:

§ 1.1102 Schedule of charges for applications and other filings in the wireless telecommunications services.

* * * * *

(a) * * * Manual filings and/or payments for these services are no longer accepted.

* * * * *

7. Amend § 1.1109 by revising the introductory text to read as follows:

§ 1.1109 Schedule of charges for applications and other filings for the Homeland services.

Payments should be made electronically using the Commission's electronic filing and payment system in accordance with the procedures set forth on the Commission's website, www.fcc.gov/licensing-databases/fees. Manual filings and/or payments for these services are no longer accepted.

* * * * *

8. Amend § 1.1111 by revising paragraph (b) to read as follows:

§ 1.1111 Payment of charges.

* * * * *

(b) Applicants may access the Commission's on-line filing systems at https://www.fcc.gov/licensing-databases/online-filing, and the Commission's fee payment module through the FRN access page of the Commission's Registration System at https://apps.fcc.gov/cores/paymentFrnLogin.do. Applicants who use the on-line processes will be directed to the appropriate electronic application and payment forms for completion and submission of the required application(s) and payment information.

* * * * *

9. Amend § 1.2107 by revising the first sentence of paragraph (b) to read as follows:

§ 1.2107 Submission of down payment and filing of long-form applications.

* * * * *

(b) Unless otherwise specified by public notice, within ten (10) business days after being notified that it is a high bidder on a particular license(s), a high bidder must electronically submit to the Commission such additional funds (the “down payment”) as are necessary to bring its total deposits (not including upfront payments applied to satisfy bid withdrawal or default payments) up to twenty (20) percent of its high bid(s). * * *

* * * * *

PART 80—STATIONS IN THE MARITIME SERVICES

10. The authority citation for part 80 continues to read as follows:

Authority: 47 U.S.C. 151-155, 301-609; 3 U.S.T. 3450, 3 U.S.T. 4726, 12 U.S.T. 2377.

11. Amend § 80.59 by revising the first sentence in paragraph (c)(2) to read as follows:

§ 80.59 Compulsory ship inspections.

* * * * *

(c) * * *

(2) Feeable applications for exemption must be filed electronically using the Commission's Universal Licensing System. * * *

* * * * *

[FR Doc. 2023-14498 Filed 7-12-23; 8:45 am]

BILLING CODE 6712-01-P